DEPARTMENT OF COMMERCE

International Trade Administration

[A-821-811]

Ammonium Nitrate From the Russian Federation: Final Results of Sunset Review and Revocation of Antidumping Duty Order

AGENCY: Enforcement and Compliance, International Trade Administration, Department of Commerce.

SUMMARY: On July 1, 2016, the Department of Commerce (the Department) initiated the second sunset review of the antidumping duty order on ammonium nitrate from the Russian Federation (Russia). Because no domestic interested party filed a notice of intent to participate in response to the notice of initiation, the Department is revoking the antidumping duty order on ammonium nitrate from Russia.

DATES: Effective August 20, 2016.

FOR FURTHER INFORMATION CONTACT: David Crespo at (202) 482-3693, AD/CVD Operations, Office II, Enforcement and Compliance, International Trade Administration, U.S. Department of Commerce, 14th Street and Constitution Avenue NW., Washington, DC 20230.

SUPPLEMENTARY INFORMATION:

Background

On April 27, 2011, the Department terminated the agreement suspending the antidumping duty investigation and issued an antidumping duty order on ammonium nitrate from Russia.¹ On July 1, 2016, the Department initiated a sunset review of the antidumping duty Order pursuant to section 751(c) of the Tariff Act of 1930, as amended (“the Act”).² We received no notice of intent to participate in response to the Initiation Notice from domestic interested parties by the applicable deadline.³ As a result, the Department concludes that no domestic party intends to participate in this sunset review.⁴ On July 21, 2016, we notified the International Trade Commission, in writing, that we intend to revoke the Order.⁵

¹ See Termination of the Suspension Agreement on Solid Fertilizer Grade Ammonium Nitrate From the Russian Federation and Notice of Antidumping Duty Order; 76 FR 23569 (April 27, 2011) (Order).

² See Initiation of Five-Year (“Sunset”) Review; 81 FR 43185 (July 1, 2016) (Initiation Notice).

³ See 19 CFR 351.218(d)(1)(i).

⁴ See 19 CFR 351.218(d)(1)(iii)(A).

⁵ See 19 CFR 351.218(d)(1)(iii)(B)(2).

Scope of the Order

The scope of this order includes solid, fertilizer grade ammonium nitrate products, whether prilled, granular, or in other solid form, with or without additives or coating, and with a bulk density equal to or greater than 53 pounds per cubic foot. Specifically excluded from this scope is solid ammonium nitrate with a bulk density less than 53 pounds per cubic foot (commonly referred to as industrial or explosive grade ammonium nitrate). The merchandise subject to this order is classified in the Harmonized Tariff Schedule of the United States (HTSUS) at subheadings 3102.30.00.00 and 3102.290000. Although the HTSUS subheadings are provided for convenience and customs purposes, the written description of the merchandise within the scope is dispositive.

Revocation

Pursuant to section 751(c)(3)(A) of the Act and 19 CFR 351.218(d)(1)(iii)(B)(3), if no domestic interested party files a notice of intent to participate, the Department shall issue a final determination revoking the order within 90 days of the initiation of the review. Because no domestic interested party filed a notice of intent to participate in this sunset review, the Department finds that no domestic interested party is participating in this sunset review. Therefore, we are revoking the Order. The effective date of revocation is August 20, 2016, the fifth anniversary of the date of publication in the Federal Register of the Continuation of the Order.⁶

⁶ See 19 CFR 351.222(i)(2); see also Continuation of Antidumping Duty Order on Solid Fertilizer Grade Ammonium Nitrate From the Russian Federation, 76 FR 49449 (August 20, 2011).

Pursuant to section 751(c)(3)(A) of the Act and 19 CFR 351.222(i)(2)(i), the Department intends to issue instructions to U.S. Customs and Border Protection to terminate the suspension of liquidation of entries of the merchandise subject to the order which were entered, or withdrawn from warehouse, for consumption on or after August 20, 2016. Entries of subject merchandise prior to August 20, 2016, will continue to be subject to the suspension of liquidation and requirements for deposits of estimated antidumping duties. The Department will conduct administrative reviews of the order with respect to subject merchandise entered prior to the effective date of revocation in response to appropriately filed requests for review.

These final results of the five-year (sunset) review and notice of revocation of the antidumping duty order are published in accordance with sections 751(c) and 777(i)(1) of the Act.

Dated: August 5, 2016.
Ronald K. Lorentzen,
Acting Assistant Secretary for Enforcement and Compliance.

[FR Doc. 2016-19248 Filed 8-11-16; 8:45 am]

BILLING CODE 3510-DS-P